DEPARTMENT OF ENERGY

Federal Energy Regulatory Commission

[Docket No. RP00-7-003]

Texas Eastern Transmission Corporation; Notice of Compliance Filing

May 4, 2000.

Take notice that on April 28, 2000, Texas Eastern Transmission Corporation (Texas Eastern) tendered for filing as part of its FERC Gas Tariff, Sixth Revised Volume No. 1 and Original Volume No. 2, the tariff sheets listed in Appendix A to the filing, with a proposed effective date of November 29, 1999.

Texas Eastern states that the filing is submitted pursuant to the Commission's Order on Rehearing and Clarification issued on April 14, 2000 (April 14 Order) in Docket Nos. RP00-7-001 and RP00-7-002, reflecting the removal from the Oakford storage rate base of $2,017,296 in cost of transportation of the working gas volumes to storage.

Texas Eastern states that the revised tariff sheets result in decreasing the Oakford storage cost-of-service reduction to the storage cost credit mechanism to $525,146 monthly. In addition, Texas Eastern states that upon approval of the revised tariff sheets filed herein Texas Eastern would propose to effect refunds with interest as required by the April 14 Order by crediting the calculated refund amount including interest to the next regular bill transmitted to each customer.

Texas Eastern states that copies of the filing were mailed to all affected customers and interested state commissions.

Any person desiring to protest this filing should file a protest with the Federal Energy Regulatory Commission, 888 First Street, N.E., Washington, D.C. 20426, in accordance with Section 385.211 of Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-11633 Filed 5-09-00; 8:45 am]

BILLING CODE 6717-01-M